DEPARTMENT OF COMMERCE

National Oceanic and Atmospheric Administration

Science Advisory Board; Notice of Charter Renewal

AGENCY: Office of Oceanic and Atmospheric Research (OAR), National Oceanic and Atmospheric Administration (NOAA), Department of Commerce (DOC).

ACTION: Notice of charter renewal.

SUMMARY: The Department of Commerce's Chief Financial Officer and Assistant Secretary for Administration has renewed the charter for the Science Advisory Board (SAB) for a 2-year period, through August 8, 2009. The SAB is a federal advisory committee under the Federal Advisory Committee Act (Pub. L. 92-463).

DATES: Renewed through August 8, 2009.

SUPPLEMENTARY INFORMATION: The charter has evolved since the SAB's inception in 1997 so as to accurately describe the SAB's purpose, membership, and administrative provisions. To more fully align the charter with the current state of the SAB and NOAA, the renewal charter has been modified as follows: (1) The term of the Chairperson has been specified to be until the end of the selected member's term on the SAB. (2) Members whose terms on the SAB have expired may remain on at the specific request of the Under Secretary for a period of time not to exceed one year beyond the original end date of the final term. (3) Members of the SAB's task forces and working groups shall be appointed by the Under Secretary or his designee in accordance with applicable Department of Commerce appointment procedures for members of advisory committees.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov); or visit the NOAA SAB Web site at http://www.sab.noaa.gov.

Dated: September 5, 2007.
Mark E. Brown,
Chief Financial Officer and Chief Administrative Officer, Office of Oceanic and Atmospheric Research, National Oceanic and Atmospheric Administration.

[FR Doc. E7-18097 Filed 9-12-07; 8:45 am]

BILLING CODE 3510-KD-P